DEPARTMENT OF HOMELAND SECURITY

Bureau of Customs and Border Protection

19 CFR Parts 101 and 122

[USCBP-2005-0007; CBP Dec. 06-14]

Establishment of a New Port of Entry in the Tri-Cities; Area of Tennessee and Virginia and Termination of the User-Fee Status of Tri-Cities Regional Airport

AGENCY: Customs and Border Protection; DHS.

ACTION: Final rule.

SUMMARY: This document amends Department of Homeland Security regulations pertaining to the Bureau of Customs and Border Protection's field organization by establishing a new port of entry in the Tri-Cities area of the States of Tennessee and Virginia, including the Tri-Cities Regional Airport. The new port of entry includes the same geographical boundaries of the current Customs and Border Protection User Fee Port No. 2082, which encompasses Sullivan County, Tennessee; Washington County, Tennessee; and Washington County, Virginia. The user-fee status of Tri-Cities Regional Airport, located in Blountville, Tennessee, is terminated. These changes will assist the Bureau of Customs and Border Protection in its continuing efforts to provide better service to carriers, importers and the general public.

DATES: Effective Date: June 15, 2006.

FOR FURTHER INFORMATION CONTACT: Dennis Dore, Office of Field Operations, 202-344-2776.

SUPPLEMENTARY INFORMATION:

Background

In a Notice of Proposed Rulemaking published in the Federal Register (70 FR 43808) on July 29, 2005, the Department of Homeland Security (DHS), Bureau of Customs and Border Protection (CBP), proposed to amend 19 CFR 101.3(b)(1) by establishing a new port of entry at Tri-Cities Regional Airport and the area which it services in the states of Tennessee and Virginia. The new port of entry was proposed to include the same geographical boundaries of the current CBP User Fee Port No. 2082, which encompasses Sullivan County, Tennessee; Washington County, Tennessee; and Washington County, Virginia. The boundaries were also to include Tri-Cities Regional Airport, located in Blountville, Tennessee, which currently operates, and is listed, as a user-fee airport at 19 CFR 122.15(b).

CBP proposed the establishment of the new port of entry because the Tri-Cities area satisfies the current criteria for port of entry designations as set forth in Treasury Decision (T.D.) 82-37 (Revision of Customs Criteria for Establishing Ports of Entry and Stations, 47 FR 10137), as revised by T.D. 86-14 (51 FR 4559) and T.D. 87-65 (52 FR 16328). Under these criteria, CBP evaluates whether there is a sufficient volume of import business (actual or potential) to justify the expense of maintaining a new office or expanding service at an existing location. The proposed rule set forth how the Tri-Cities area meets the criteria.

Analysis of Comments and Conclusion

CBP did not receive any comments in response to the Notice of Proposed Rulemaking. As CBP continues to believe that the establishment of a new port of entry at Tri-Cities Regional Airport, and the area which it services in the states of Tennessee and Virginia, will assist CBP in its continuing efforts to provide better service to carriers, importers and the general public, CBP is establishing the new port of entry as proposed and Tri-Cities Regional Airport will lose its status as a user-fee airport. The change of status for Tri-Cities Regional Airport from a user-fee airport to inclusion within the boundaries of a port of entry will subject the airport to the passenger processing fee provided for at 19 U.S.C. 58c(a)(5)(B).

Description of the New Port of Entry Limits

The geographical limits of the Tri-Cities, TNNA, port of entry are as follows:

The contiguous outer boundaries of Sullivan County, Tennessee; Washington County, Tennessee; and Washington County, Virginia.

Authority

This change is made under the authority of 5 U.S.C. 301 and 19 U.S.C. 2, 66, and 1624, and the Homeland Security Act of 2002, Public Law 107-296 (November 25, 2002).

The Regulatory Flexibility Act and Executive Order 12866

With DHS approval, CBP establishes, expands and consolidates CBP ports of entry throughout the United States to accommodate the volume of CBP-related activity in various parts of the country. This final rule is not a significant regulatory action within the meaning of Executive Order 12866. This action also will not have a significant economic impact on a substantial number of small entities. Accordingly, DHS certifies that this document is not subject to the additional requirements of the provisions of the Regulatory Flexibility Act (5 U.S.C. 601 et seq.).

Signing Authority

The signing authority for this document falls under 19 CFR 0.2(a) because the establishment of a new port of entry and the termination of the user-fee status of an airport are not within the bounds of those regulations for which the Secretary of the Treasury has retained sole authority. Accordingly, this final rule may be signed by the Secretary of Homeland Security (or his or her delegate).

List of Subjects

19 CFR Part 101

Customs duties and inspection, Customs ports of entry, Exports, Imports, Organization and functions (Government agencies).

19 CFR Part 122

Customs duties and inspection, Airports, Imports, Organization and functions (Government agencies).

Amendments to CBP Regulations

For the reasons set forth above, part 101, CBP Regulations (19 CFR part 101), and part 122, CBP Regulations (19 CFR part 122), are amended as set forth below.

PART 101—GENERAL PROVISIONS

1. The general authority citation for part 101 and the specific authority citation for § 101.3 continue to read as follows:

Authority: 5 U.S.C. 301; 19 U.S.C. 2, 66, 1202 (General Note 3(i), Harmonized Tariff Schedule of the United States), 1623, 1624, 1646a.

Sections 101.3 and 101.4 also issued under 19 U.S.C. 1 and 58b;

* * * * *

§ 101.3 [Amended]

2. The list of ports in § 101.3(b)(1) is amended by adding, in alphabetical order under the state of Tennessee, “Tri-Cities, TN/VA” in the “Ports of entry” column and “CBP Dec. 06-14” in the “Limits of Port” column.

PART 122—AIR COMMERCE REGULATIONS

1. The general authority for part 122 continues to read as follows:

Authority: 5 U.S.C. 301; 19 U.S.C. 58b, 66, 1431, 1433, 1436, 1448, 1459, 1590, 1594, 1623, 1624, 1644, 1644a, 2071 note.

* * * * *

§ 122.15 [Amended]

2. The list of user fee airports at 19 CFR 122.15(b) is amended by removing “Blountville, Tennessee” from the “Location” column and, on the same line, “Tri-City Regional Airport” from the “Name” column.

Dated: May 9, 2006.
Michael Chertoff,
Secretary.

[FR Doc. 06-4535 Filed 5-15-06; 8:45 am]

BILLING CODE 9111-14-P